DEPARTMENT OF TRANSPORTATION

Federal Highway Administration

Mississippi Division; Notice To Rescind a Notice of Intent To Prepare an Environmental Impact Statement (EIS): Hinds and Madison Counties, MS

AGENCY: Federal Highway Administration (FHWA), DOT.

ACTION: Rescind Notice of Intent to prepare an EIS.

SUMMARY: The FHWA is issuing this notice to advise the public that the Notice of Intent published on August 10, 2007 to prepare an Environmental Impact Statement (EIS) for a proposed Interstate type facility connecting I-55 with I-20 through Hinds and Madison counties is being rescinded.

FOR FURTHER INFORMATION CONTACT: Cecil Vick, Environment and Planning Management Team Leader, Federal Highway Administration, Mississippi Division, 666 North Street, Suite 105, Jackson, Mississippi 39202, Telephone: (601) 965-4217.

SUPPLEMENTARY INFORMATION:

Background

The FHWA is rescinding the notice of intent to prepare an Environmental Impact Statement (EIS) which was to study potential improvements to the existing State Route 22 (SR 22) corridor. This 40-mile long corridor was proposed to be upgraded to Interstate standards with logical termini on Interstate 55 in Madison County and I-20 in Hinds County, Mississippi.

The purpose of the EIS was to address the transportation, environmental, and safety issues of such a transportation corridor. The improved connection would improve mobility and access throughout the Jackson metropolitan area and support economic activity. The highway was proposed as a full control of access facility, and appropriate interchanges will be studied at various locations.

During the first round of public meetings, it was determined that the public was unanimous in their opposition to this project. In addition, there is no funding available for the construction.

Andrew H. Hughes,
Division Administrator, Mississippi, Federal Highway Administration, Jackson, Mississippi.

[FR Doc. E8-23124 Filed 9-30-08; 8:45 am]

BILLING CODE 4910-22-P